DEPARTMENT OF TRANSPORTATION

Federal Aviation Administration

14 CFR Part 71

[Docket No. FAA-2009-0878; Airspace Docket No. 09-ASW-7]

RIN 2120-AA66

Establishment of Low Altitude Area Navigation Route (T-284); Houston, TX

AGENCY: Federal Aviation Administration (FAA), DOT.

ACTION: Final rule.

SUMMARY: This action establishes a low altitude area navigation (RNAV) route, designated T-284, in the Houston, TX, terminal area, to expedite the handling of Instrument Flight Rules (IFR) overflight aircraft transitioning busy terminal airspace. The FAA is taking this action to enhance the safe and efficient use of the navigable airspace in the Houston, TX, terminal area.

DATES: Effective date 0901 UTC, July 29, 2010. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On Friday, November 13, 2009, the FAA published in the Federal Register a notice of proposed rulemaking (NPRM) to establish low altitude area navigation route T-284 (74 FR 58571). Interested parties were invited to participate in this rulemaking effort by submitting written comments on the proposal. No comments were received.

The following editorial changes are corrected in this final rule. The airway identifier presented in the regulatory text of the NPRM was incorrectly listed as T-254 instead of T-284. Additionally, the points WEMAR and DROPP identified in the route description were incorrectly listed as WPs (waypoints) instead of fixes. With the exception of the editorial changes noted above, this amendment is the same as that proposed in the NPRM.

The Rule

This action amends Title 14 Code of Federal Regulations (14 CFR) part 71 by establishing area navigation route T-284 between the WEMAR, TX, navigation fix and the Scholes, TX, VORTAC. The new route will enhance the flow of air traffic in the Houston, TX, terminal area.

Low altitude RNAV routes are published in paragraph 6011 of FAA Order 7400.9T signed August 27, 2009, and effective September 15, 2009, which is incorporated by reference in 14 CFR 71.1. The low altitude RNAV routes listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes a low altitude RNAV route (T-route) in Houston, TX.

Environmental Review

The FAA has determined that this action qualifies for categorical exclusion under the National Environmental Policy Act in accordance with FAA Order 1050.1E, Environmental Impacts: Polices and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.T, Airspace Designations and Reporting Points, signed August 27, 2009 and effective September 15, 2009, is amended as follows:

Paragraph 6011 United States Area Navigation Routes.

* * * * *

T-284 WEMAR, TX to Scholes, TX [New]

WEMAR, TX—Fix

(Lat. 29°39′37″ N., long. 97°00′37″ W.)

DROPP, TX—Fix

(Lat. 29°13′38″ N., long. 95°32′04″ W.)

Scholes, TX (VUH)—VORTAC

(Lat. 29°16′10″ N., long. 94°52′04″ W.)

Issued in Washington, DC, on March 25, 2010.
Kelly Neubecker,
Acting Manager, Airspace and Rules Group.

[FR Doc. 2010-7245 Filed 3-31-10; 8:45 am]

BILLING CODE 4910-13-P